DEPARTMENT OF THE TREASURY

Internal Revenue Service

26 CFR Part 1

[REG-162625-02]

RIN 1545-BB73

Real Estate Mortgage Investment Conduits; Application of Section 446 With Respect to Inducement Fees; Hearing

AGENCY: Internal Revenue Service (IRS), Treasury.

ACTION: Cancellation of notice of public hearing on proposed rulemaking.

SUMMARY: This document provides notice of cancellation of a public hearing on proposed regulations relating to the proper timing and source of income from fees received to induce the acquisition of noneconomic residual interests in Real Estate Mortgage Investment Conduits (REMICs).

DATES: The public hearing originally scheduled for Tuesday, November 18, 2003, at 10 a.m., is cancelled.

FOR FURTHER INFORMATION CONTACT: Treena Garrett of the Publications and Regulations Branch, Legal Processing Division, Associate Chief Counsel (Procedure and Administration), (202) 622-7180 (not a toll-free number).

SUPPLEMENTARY INFORMATION: A notice of proposed rulemaking and notice of public hearing that appeared in the Federal Register on Monday, July 21, 2003, (68 FR 43055), announced that a public hearing was scheduled for Tuesday, November 18, 2003, at 10 a.m. in the Auditorium, Internal Revenue Service Building, 1111 Constitution Avenue, NW., Washington, DC. The subject of the public hearing is proposed regulations under sections 446, 860, and 863 of the Internal Revenue Code. The public comment period for these proposed regulations expired on Monday, October 20, 2003. Outlines of oral comments were due on Tuesday, October 28, 2003.

The notice of proposed rulemaking and notice of public hearing, instructed those interested in testifying at the public hearing to submit a request to speak and an outline of the topics to be addressed. As of Wednesday, November 5, 2003, no one has requested to speak. Therefore, the public hearing scheduled for Tuesday, November 18, 2003, is cancelled.

Cynthia E. Grigsby,
Acting Chief, Publications and Regulations Branch, Legal Processing Division, Associate Chief Counsel (Procedure and Administration).

[FR Doc. 03-28204 Filed 11-7-03; 8:45 am]

BILLING CODE 4830-01-P